DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of persons and vessels that have been placed on OFAC's Specially Designated Nationals and Blocked Persons List (SDN List) based on OFAC's determination that one or more applicable legal criteria were satisfied. All property and interests in property subject to U.S. jurisdiction of these persons, including the identified vessels, are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

A. On November 16, 2023, OFAC determined that the property and interests in property subject to U.S. jurisdiction of the following persons are blocked under the relevant sanctions authority listed below:

Entities

1. GALLION NAVIGATION INCORPORATED, 80 Broad Street, Monrovia, Liberia; Unit 27610-001, Building A1, IFZA Business Park, Dubai Silicon Oasis, Dubai, United Arab Emirates; Identification Number IMO 4112088 [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the marine sector of the Russian Federation economy.

2. KAZAN SHIPPING INCORPORATED, Office OT 17-32, 17th Floor, Office Tower, Central Park Towers, Dubai, United Arab Emirates; Unit 27610-001, Building A1, IFZA Business Park, DDP, Dubai Silicon Oasis, Dubai, United Arab Emirates; Identification Number IMO 1142781 [RUSSIA-EO14024].

Designated pursuant to section 1(a)(i) of E.O. 14024 for operating or having operated in the marine sector of the Russian Federation economy.

3. PROGRESS SHIPPING COMPANY LIMITED, 80 Broad Street, Monrovia, Liberia; Unit 27610-001, Building A1, IFZA Business Park, Dubai Silicon Oasis, Dubai, United Arab Emirates; Identification Number IMO 4075276 [RUSSIA-EO14024].

Designated pursuant to section 1(a)(i) of E.O. 14024 for operating or having operated in the marine sector of the Russian Federation economy.

On November 16, 2023, OFAC also identified the following vessels as property in which a blocked person has an interest, under the relevant sanctions authority listed below:

Vessels

1. NS CENTURY (A8IJ8) Crude Oil Tanker Liberia flag; Vessel Registration Identification IMO 9306782; MMSI 636012853 (vessel) [RUSSIA-EO14024] (Linked To: GALLION NAVIGATION INCORPORATED).

Identified as property in which Gallion Navigation Incorporated, a person whose property and interests in property are blocked pursuant to E.O. 14024, has an interest.

2. KAZAN (A8CE6) Crude Oil Tanker Liberia flag; Vessel Registration Identification IMO 9258002; MMSI 636011916 (vessel) [RUSSIA-EO14024] (Linked To: KAZAN SHIPPING INCORPORATED).

Identified as property in which Kazan Shipping Incorporated, a person whose property and interests in property are blocked pursuant to E.O. 14024, has an interest.

3. LIGOVSKY PROSPECT (A8AP5) Crude Oil Tanker Liberia flag; Vessel Registration Identification IMO 9256066; MMSI 636011641 (vessel) [RUSSIA-EO14024] (Linked To: PROGRESS SHIPPING COMPANY LIMITED).

Identified as property in which Progress Shipping Company Limited, a person whose property and interests in property are blocked pursuant to E.O. 14024, has an interest.

Dated: May 1, 2024.
Bradley T. Smith,
Director, Office of Foreign Assets Control, U.S. Department of the Treasury.

[FR Doc. 2024-09788 Filed 5-3-24; 8:45 am]

BILLING CODE 4810-AL-P